DEPARTMENT OF THE INTERIOR

Office of the Secretary

[XXXD4523WT; DWT000000.000000; DP61201; DS61200000]

Notice of Adoptions of a Categorical Exclusion Under Section 109 of the National Environmental Policy Act

AGENCY: Office of the Secretary, Interior.

ACTION: Notice.

SUMMARY: The U.S. Department of the Interior (Department) is notifying the public and documenting the adoption of a National Park Service (NPS) categorical exclusion (CE) for invasive species management by seven other Department bureaus or offices (adopting bureaus). NPS and the adopting bureaus manage or provide funding to manage invasive species, which the NPS CE facilitates. These adopting bureaus are: the Bureau of Land Management, the Bureau of Reclamation, the U.S. Fish and Wildlife Service, the U.S. Geological Survey, the Office of Insular Affairs, the Bureau of Indian Affairs, and the Office of Surface Mining Reclamation and Enforcement. In accordance with section 109 of the National Environmental Policy Act, this notice identifies the types of actions to which the adopting bureaus will apply the CE; the considerations that the adopting bureaus will use in determining the applicability of the CE; the consultation between and among the Department, the adopting bureaus, and NPS on the use of the CE; and the application of extraordinary circumstances.

DATES: The adoptions are effective December 13, 2024.

FOR FURTHER INFORMATION CONTACT: Hilary Smith, Senior Advisor for Invasive Species, Office of Policy Analysis, at hilary_smith@ios.doi.gov or 202-763-3118.

SUPPLEMENTARY INFORMATION:

Background

Program Background

The Department, through its bureaus, has been managing invasive species on Federal lands for more than 70 years. The bureaus also provide Federal financial assistance to Tribal, Territorial, State, and local governments for invasive species control and eradication outside of lands managed by the bureaus. However, significant challenges remain in addressing both established and newly arriving invasive species. Currently, less than one percent of invasive plant populations and about 10 percent of invasive animal populations on Department-managed lands are under control. The impacts of invasive species are likely to increase in the coming decades. This is due in part to the growing global movement of people and materials and increased tourism and trade. In addition, a changing climate alters weather patterns, precipitation, and extreme weather events. Those changes disrupt ecosystems and make them more susceptible to biological invasions.

In some areas managed by the Department's bureaus, invasive species have become dominant, leading to significant ecosystem degradation. Controlling these species is one of the greatest challenges in land management. Left unmanaged, invasive species can create dense infestations that degrade soil productivity, reduce livestock forage quality, harm water quality and availability, reduce native species diversity, and negatively impact wildlife habitat quality. These changes can also lower wilderness values and impact recreational opportunities.

The Department is adopting a NPS CE for invasive species management for use by the Bureau of Land Management, the Bureau of Indian Affairs, the Bureau of Reclamation, the U.S. Fish and Wildlife Service, the Office of Insular Affairs, the U.S. Geological Survey, and the Office of Surface Mining Reclamation and Enforcement to support the adopting bureaus' efforts to more effectively and efficiently control and eradicate invasive species. NPS is a bureau within the Department. NPS actions and best practices related to invasive species management are similar to those actions and best practices conducted by the adopting bureaus in the Department. In addition, like NPS, other adopting bureaus' implementation of proposed actions would need to be consistent with the Department's Invasive Species Policy (part 524 of the Departmental Manual chapter 1, (524 DM 1)), and Integrated Pest Management Policy (517 DM 1).

National Environmental Policy Act and Categorical Exclusions

The National Environmental Policy Act, as amended, at 42 U.S.C. 4321-4347 (NEPA), requires all Federal agencies to consider the environmental impact of their proposed actions before deciding whether and how to proceed. 42 U.S.C 4321, 4332. The NEPA aims to ensure agencies consider the environmental effects of their proposed actions in their decision-making processes and inform and involve the public in that process. 42 U.S.C. 4331. The NEPA created the Council on Environmental Quality (CEQ), which promulgated NEPA implementing regulations, 40 CFR parts 1500 through 1508 (CEQ NEPA regulations).

Under the NEPA and CEQ's NEPA regulations, a Federal agency can establish CEs—categories of actions that normally do not have significant effect on the human environment, individually or in the aggregate, and therefore do not require the preparation of an environmental assessment (EA) or an environmental impact statement (EIS)—in their agency NEPA procedures. 42 U.S.C. 4336(e)(1); 40 CFR 1501.4, 1507.3, 1508.1(e). If an agency determines that a CE covers a proposed action, it then evaluates the proposed action for extraordinary circumstances in which a normally excluded action may have a significant effect. 40 CFR 1501.4(b). If no extraordinary circumstances exist, the agency may apply the CE to the proposed action without preparing an EA or EIS. 42 U.S.C. 4336(a)(2), 40 CFR 1501.4.

Section 109 of the NEPA, enacted as part of the Fiscal Responsibility Act of 2023, allows a Federal agency to “adopt” or rely on another agency's CE for a category of proposed agency actions. 42 U.S.C. 4336(c). To use another agency's CEs under section 109, the adopting agency must identify the relevant CEs listed in another agency's (“establishing agency”) NEPA procedures that cover the adopting agency's category of proposed actions or related actions; consult with the establishing agency to ensure that the proposed adoption of the CE for a category of actions is appropriate; identify to the public the CE that the adopting agency plans to use for its proposed actions; and document adoption of the CE. 42 U.S.C. 4336c. The Department has prepared this notice to meet the applicable statutory requirements for the adoption of the NPS CE by the adopting bureaus and to notify the public.

The Department's NEPA procedures are codified at 43 CFR part 46. These procedures address compliance with the NEPA. The Department's protocol for application of CEs is at 43 CFR 46.205. The Department's CEs available to all bureaus within the Department are listed in 43 CFR 46.210. Additional Department-wide NEPA policy is found in the Department's Departmental Manual (DM), in chapters 1 through 4 of part 516. Supplementary NEPA procedures for the Department's bureaus are published in additional chapters in part 516 of the DM. The NPS's NEPA procedures are provided in the DM part 516 Chapter 12 (516 DM 12).

Categorical Exclusion Adopted

The adopting bureaus identified the following NPS CE, found in 516 DM 12, for adoption and uses:

E.6. Restoration of noncontroversial native species into suitable habitats within their historic range and elimination of exotic species.

The CE will be added to the NEPA DM chapters for Bureau of Land Management, the Bureau of Indian Affairs, the Bureau of Reclamation, the U.S. Fish and Wildlife Service, the Office of Insular Affairs, the U.S. Geological Survey, and the Office of Surface Mining Reclamation and Enforcement.

Consultation With NPS and Determination of Appropriateness

In January and July 2024, the Department and its adopting bureaus consulted with NPS regarding the suitability of the Department's adoption of the CE for use by those other bureaus. The consultation included a review of NPS's experience applying the CE, as well as the types of actions the adopting bureaus intend to rely on the CE to support.

The NPS CE provides for restoration of native species within their historic range. The NPS CE also includes the removal of exotic species. The NPS CE uses the term “exotic species.” Exotic Species is synonymous with the terms “non-native” or “alien,” which refers to an organism, including its seeds, eggs, spores, or other biological material capable of propagating that species, that occurs outside of its natural range (definition in Executive Order (E.O.) 13112 (amended by E.O. 13751)). When NPS established the CE in 1984, the term “exotic species” was the common term used; today the common term used is “invasive species,” and the adopting bureaus will rely on the CE to support projects conducted for the management of invasive species. E.O. 13751 defines invasive species to mean, “with regard to a particular ecosystem, a non-native organism whose introduction causes or is likely to cause economic or environmental harm, or harm to human, animal, or plant health.”

Since 1984, the NPS has relied on this CE to conduct actions including physical control, pesticide applications, and the use of biological control organisms to manage invasive species. The NPS relies on this CE to conduct the types of actions listed below approximately 80 times each year. Invasive species such as salt cedar (Tamarisk spp.), Japanese honeysuckle (Lonicera japonica), kudzu (Pueraria montana), Chinese privet (Ligustrum sinense), Burmese python (Python bivittatus), feral hogs (Sus scrofa), cape ivy (Delairea odorata), French broom (Genista monspessulana), Scotch broom (Cytisus scoparius), capeweed (Arctotheca calendula), European beachgrass (Ammophila arenaria), Lehmann lovegrass (Eragrostis lehmanniana), tree-of-heaven (Ailanthus altissima), black acacia (Acacia mearnsii), non-native trout, and many others have been removed through chemical, mechanical, and biocontrol methods in NPS units. In many instances, the removal of invasive species has led to landscape improvements. The work has encouraged growth of native species and allowed parks to successfully reintroduce native species to their historical range. Removal of invasive plants has allowed parks to plant or relocate native grasses, vegetation, or trees such as Sonoma spineflower (Chorizanthe valida), red osier dogwood (Cornus sericea), juniper (Juniperus communis), buffalo grass (Bouteloua dactyloides), blue grama (Bouteloua gracilis), and blackbrush (Coleogyne ramosissima). Removal of invasive species has also improved ecosystems to allow reintroduction of fish and amphibians such as the humpback chub (Gila cypha), bonytail chub (Gila elegans), cutthroat trout (Oncorhynchus clarkii), relict leopard frog (Lithobates onca), and California treefrog (Pseudacris cadaverine)—some of which were considered endangered or threatened.

The NPS has also used biological control methods where appropriate to control invasive species effectively. Known predators of invasive species have been released to control the spread of invasive species without harming the natural ecosystem. For example, purple loosestrife (Lythrum salicaria) infestations have been controlled by releasing leaf beetles (Galerucella spp.) and pine weevils (Hylobius spp.). Mile-a-minute vines (Persicaria perfoliata) have been reduced by releasing a weevil (Rhinoncomimus latipes) in Shenandoah National Park. In both instances, the biological control species caused no harm to the natural environment and prevented further spread of invasive species. The introduction of predator species has been used many times in various locations to successfully control invasive species when mechanical or chemical removal was not possible.

The adopting bureaus intend to apply this CE to invasive species management in several ways: to actions undertaken directly by the adopting bureaus identified above; to actions requiring an approval by these adopting bureaus; or to funding for invasive species management made available by these adopting bureaus. The types of actions addressed by the CE include control or eradication of invasive species (such as invasive plants, trees, and shrubs; invasive invertebrates; invasive mammals; and invasive pathogens) as part of efforts to control or eradicate ongoing invasive species infestations or to respond to newly detected invasive species, using biological, cultural, physical (manual or mechanical), and chemical methods per Department policies and procedures listed below. Consistent with NPS's use of the CE, these adopting bureaus could rely on the CE to conduct projects for the control or eradication of terrestrial or aquatic invasive plants, terrestrial or aquatic invasive animals, and terrestrial or aquatic invasive pathogens.

Like NPS, any actions undertaken by an adopting bureau would be regulated and guided by existing Department and bureau policies, internal review and approval processes, and State and Federal laws and regulations, including the NEPA. Use of this CE would require local, site-specific environmental review of the proposed action to determine if reliance on the CE is appropriate, complies with the Endangered Species Act section 7(a)(2), and adheres to existing laws and bureau policies.

Actions must be applied as part of an integrated pest management approach (IPM). Consistent with 517 DM 1, Integrated Pest Management Policy, the Department manages invasive species by following IPM principles. IPM is defined as a sustainable approach to managing invasive species by a combination of biological, physical, and chemical methods that minimizes economic, health, and environmental risks (Federal Insecticide, Fungicide, and Rodenticide Act [FIFRA, 7 U.S.C. 136r-1]). IPM is a science-based decision-making process that guides bureaus when investigating a pest situation. Following IPM principles means acting in a manner that reduces risks from both the target species and associated management activities. The IPM approach determines the most appropriate and cost-effective management solution for the specific situation. IPM reduces risks to people, resources, and the environment from pests and from the strategies used to manage them. Biological control methods include using predators, parasites, pathogens, and grazing animals. Physical methods include using manual and mechanical methods. Chemical methods include the application of pesticides. Any application of chemicals must be approved through the respective bureau's pesticide use proposal process. It must also adhere to pesticide label requirements as approved by the U.S. Environmental Protection Agency and all other applicable Federal, Tribal, Territorial, State, local, and agency regulations and bureau policies pertaining to application, handling, storage, and transportation. The pesticide use proposal systems at each bureau function to reduce risks to the public, bureau resources, and the environment from pests and pest-related management strategies. Each time a pesticide is used within the Federal boundaries that usage must be reviewed by a bureau subject matter expert. The internal review is determined by the type of pesticide, the site where its use is proposed, the target species, and many other criteria.

Actions conducted by other bureaus within the Department for invasive species management are similar to the type of actions that NPS conducts. Therefore, the impacts of the adopting bureaus' actions are anticipated to be similar to the impacts of NPS actions, which are not significant, absent the existence of extraordinary circumstances. The Department has determined that the adopting bureaus' proposed adoption of the CE as described in this notice is appropriate.

Consideration of Extraordinary Circumstances

As NPS does when applying this CE, Responsible Officials within the adopting bureaus will evaluate the proposed actions to determine whether there are any extraordinary circumstances, listed at 43 CFR 46.215, that would preclude reliance on the CE. The extraordinary circumstances include, in part, consideration of impacts on public health and safety; natural resources and unique geographic characteristics as historic or cultural resources; park, recreation, or refuge lands; wilderness areas; wild or scenic rivers; national natural landmarks, sole or principal drinking water aquifers; prime farmlands; wetlands; floodplains; national monuments; migratory birds; and other ecologically significant or critical areas; unresolved conflicts concerning alternative uses of available resources; unique or unknown environmental risks; precedent for future decision-making; historic properties; listed species or critical habitat; low income or minority populations; access by Indian religious practitioners to, and for ceremonial use of, Indian sacred sites and the physical integrity of those sites; and contribution to the introduction, continued existence, or spread of invasive plants or non-native invasive species. The Department's list of extraordinary circumstances is used by all bureaus within the Department. Therefore, Responsible Officials in the adopting bureaus intending to rely on this CE will review whether the proposed action has the potential to result in significant effects, as described in the Department's extraordinary circumstances. If the Responsible Official cannot rely on a categorical exclusion to support a decision on a particular proposed action due to extraordinary circumstances, the Responsible Official will prepare an EA or EIS, consistent with 40 CFR 1501.4(b)(2) and 43 CFR 46.205(c).

Notice to the Public and Documentation of Adoption

This notice identifies to the public that seven Department bureaus are adopting the NPS's CE used for invasive species control and eradication (E.6 Restoration of noncontroversial native species into suitable habitats within their historic range and elimination of exotic species.). The CE will be available to use by the adopting bureaus that undertake or fund invasive species management—the Bureau of Land Management, the Bureau of Indian Affairs, the Bureau of Reclamation, the U.S. Fish and Wildlife Service, the Office of Insular Affairs, the U.S. Geological Survey, and the Office of Surface Mining Reclamation and Enforcement, in addition to NPS. The notice identifies the types of actions to which the bureaus within the Department will apply the CE, as well as the considerations these bureaus will use in determining whether an action is within the scope of the CE. This documentation of the approved adoption is available at https://www.doi.gov/oepc/nepa/categorical-exclusions and will also be made available on each adopting bureau's web page for CE adoptions. The adopting bureaus will add the adopted CE to their applicable NEPA chapters in part 516 of the DM.

Authorities

National Environmental Policy Act of 1969, as amended (42 U.S.C. 4321 et seq.).

Stephen G. Tryon,
Director, Office of Environmental Policy and Compliance.

[FR Doc. 2024-29437 Filed 12-12-24; 8:45 am]

BILLING CODE 4334-20-P